DEPARTMENT OF EDUCATION

Notice of Proposed Information Collection Requests

AGENCY: Department of Education.

ACTION: Comment Request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Privacy, Information and Records Management Services, Office of Management, invites comments on the proposed information collection requests as required by the Paperwork Reduction Act of 1995.

DATES: Interested persons are invited to submit comments on or before November 29, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: September 27, 2011
Darrin King,
Director, Information Collection Clearance Division, Privacy, Information and Records Management Services, Office of Management.

Institute of Education Sciences

Type of Review: New.

Title of Collection: College Affordability and Transparency Explanation (CATE) Form 2011-2014.

OMB Control Number: Pending.

Agency Form Number(s): N/A.

Frequency of Responses: Annually.

Affected Public: State, Local or Tribal Government.

Total Estimated Number of Annual Responses: 532.

Total Estimated Annual Burden Hours: 1,596.

Abstract:. The National Center for Education Statistics (NCES) is seeking a three-year clearance for a new survey data collection for the College Affordability and Transparency List Explanation (CATE) form. The collection of this information is necessary pursuant to the Higher Education Opportunity Act (HEOA) Section 111, Part C (20 U.S.C. 1015a) with the goal of increasing transparency of college tuition prices for consumers. The clearance should start with the 2011-12 collection year and extend through the 2012-13 and 2013-14 collections. Part C of Section 111 of HEOA included provisions for improved transparency in college tuition for consumers. In response to these provisions, the Department of Education created The College Affordability and Transparency Center (CATC) which can be accessed through College Navigator. The CATC includes information for students, parents, and policymakers about college costs at America's colleges and universities. The CATC also includes several lists of institutions based on the tuition and fees and/or net prices (the price of attendance after considering all grant and scholarship aid) charged to students, including a list of institutions that are in the five percent of institutions in their institutional sector that have the highest increases, expressed as a percentage change, over the three-year time period for which the most recent data are available. The clearance being requested is to survey the institutions on this list using the College Affordability and Transparency Explanation form to collect follow-up information. The lists appearing in CATC are generated using data collected by the NCES through the Integrated Postsecondary Education Data System (IPEDS). IPEDS is a mandatory data collection for institutions that participate in or are applicants for participation in any federal student financial aid program authorized by Title IV of the Higher Education Act of 1965, as amended (20 U.S.C. 1094, Section 487(a)(17) and 34 CFR 668.14(b)(19)). The additional information to be collected will be used to write a summary report for Congress which will also be posted on the College Navigator website. The report will summarize the general and sector specific findings from the CATE using descriptive statistics. The main cost areas showing the highest increases will be identified using the percent change information provided by institutions. The most commonly reported plans to reduce the increases in those cost increases will also be indicated. Finally, the extent to which institutions participate in setting tuition and fees and net prices for students will be described and the agencies outside of the institutions that decide those student charges will be identified.

Copies of the proposed information collection request may be accessed from http://edicsweb.ed.gov, by selecting the “Browse Pending Collections” link and by clicking on link number 4729. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-25300 Filed 9-29-11; 8:45 am]

BILLING CODE 4000-01-P